DEPARTMENT OF AGRICULTURE

Commodity Credit Corporation

7 CFR Part 1435

RIN 0560-AH21

Flexible Marketing Allotments for Sugar; Correction

AGENCY: Commodity Credit Corporation, USDA.

ACTION: Correcting amendment.

SUMMARY: This document corrects the final regulations published on September 13, 2004 that amended the Sugar Program regulations of the Commodity Credit Corporation (CCC) by revising several definitions used in the program and the sugar marketing allotment regulations with respect to the reassignment of processors' allocation deficits. A correction is needed to restore two paragraphs that were inadvertently removed and add a clarifying paragraph.

DATES: Effective May 17, 2005.

FOR FURTHER INFORMATION CONTACT: Barbara Fecso, Dairy and Sweeteners Analysis, Economic and Policy Analysis Staff, Farm Service Agency (FSA), United States Department of Agriculture (USDA), Stop 0516, 1400 Independence Ave., SW., Washington, DC 20250-0516. Telephone: (202) 720-4146; e-mail: barbara.fecso@usda.gov. Persons with disabilities who require alternative means for communication (Braille, large print, audio tape, etc.) should contact the USDA Target Center at (202) 720-2600 (voice and TDD).

SUPPLEMENTARY INFORMATION:

Background

This rule corrects the final regulations published in the Federal Register on September 13, 2004 (69 FR 55061-55063) that amended the sugar marketing allotment regulations at 7 CFR 1435 with respect to the reassignment of processors' marketing allocations. In the final rule, the revision to section 1435.309 inadvertently removed paragraphs (c)(3) and (c)(4). These paragraphs are restored. The revision to section 1435.309(c) provided that if CCC determines a sugarcane processor will be unable to market its full allocation for the crop year in which an allotment is in effect, the deficit will be reassigned by June 1. This correction deletes the reference to June 1 in section 1435.309(c) and adds a new paragraph 1435.109(d) that clarifies that June 1 is the date by which the initial estimate of the deficit will be reassigned and that later reassignments will be made if CCC determines after June 1 that a sugarcane processor will be unable to market its full allocation for the crop year in which an allotment is in effect. These corrections are required for the proper administration of the program.

List of Subjects in 7 CFR Part 1435

Loan programs—agriculture, Price support programs, Reporting and record keeping requirements, and Sugar.

Accordingly, 7 CFR part 1435 is corrected as follows:

PART 1435—SUGAR PROGRAM

1. The authority citation for part 1435 continues to read as follows:

Authority: 7 U.S.C. 1359aa-1359jj and 7272 et seq.; 15 U.S.C. 714b and 714c.

Subpart D—Flexible Marketing Allotments for Sugar

2. Amend § 1435.309 by:

a. Revising paragraph (c) introductory text;

b. Adding paragraphs (c)(3) and (c)(4);

c. Redesignating paragraphs (d) and (e) as paragraphs (e) and (f) respectively;

d. Removing “(d)(1)” from newly designated paragraph (e)(2) and adding “(e)(1)” in its place;

e. Removing “(d)(1) and (d)(2)” from newly designated paragraph (e)(3) and adding “(e)(1) and (e)(2)” in its place; and

f. Adding new paragraph (d).

The revisions and additions read as follows:

§ 1435.309 Reassignment of deficits.

* * * * *

(c) If CCC determines a sugarcane processor will be unable to market its full allocation for the crop year in which an allotment is in effect, the deficit will be reassigned as follows:

* * * * *

(3) If the deficit cannot be eliminated by paragraphs (c)(1) and (c)(2) of this section, be reassigned to CCC. CCC shall sell such quantity from inventory unless CCC determines such sales would have a significant effect on the sugar price.

(4) If any portion of the deficit remains after paragraphs (c)(1), (c)(2), and (c)(3) of this section have been implemented, be reassigned to imports.

(d) The initial estimate of the sugarcane deficit will be reassigned by June 1. CCC will conduct later reassignments if CCC determines, after June 1, that a sugarcane processor will be unable to market its full allocation.

* * * * *

Signed in Washington, DC, on May 6, 2005.
James R. Little,
Executive Vice President, Commodity Credit Corporation.

[FR Doc. 05-9698 Filed 5-16-05; 8:45 am]

BILLING CODE 3410-05-P